DEPARTMENT OF HEALTH AND HUMAN SERVICES

National Institute for Occupational Safety and Health

Decision To Evaluate a Petition To Designate a Class of Employees at Nuclear Materials and Equipment Corp. (NUMEC) in Apollo, PA, To Be Included in the Special Exposure Cohort

AGENCY: National Institute for Occupational Safety and Health (NIOSH), Department of Health and Human Services (HHS).

ACTION: Notice.

SUMMARY: The Department of Health and Human Services (HHS) gives notice as required by 42 CFR 83.12(e) of a decision to evaluate a petition to designate a class of employees at the Nuclear Materials and Equipment Corp. (NUMEC)—Apollo, Apollo, Pennsylvania, to be included in the Special Exposure Cohort under the Energy Employees Occupational Illness Compensation Program Act of 2000. The initial proposed definition for the class being evaluated, subject to revision as warranted by the evaluation, is as follows:

Facility: Nuclear Materials and Equipment Corp. (NUMEC)—Apollo.

Location: Apollo, Pennsylvania.

Job Titles and/or Job Duties: All office employees who worked at the Apollo site.

Period of Employment: January 1, 1957 through December 31, 1983.

FOR FURTHER INFORMATION CONTACT: Larry Elliott, Director, Office of Compensation Analysis and Support, National Institute for Occupational Safety and Health (NIOSH), 4676 Columbia Parkway, MS C-46, Cincinnati, OH 45226, Telephone 513-533-6800 (this is not a toll-free number). Information requests can also be submitted by e-mail to OCAS@CDC.GOV.

Dated: February 6, 2007.
John Howard,
Director, National Institute for Occupational Safety and Health.

[FR Doc. 07-594 Filed 2-8-07; 8:45 am]

BILLING CODE 4163-19-M